DEPARTMENT OF LABOR

Employment and Training Administration

[TA-W-71,000]

Sypris Technologies Marion, LLC, Marion, OH; Amended Certification Regarding Eligibility To Apply for Worker Adjustment Assistance

In accordance with Section 223 of the Trade Act of 1974, as amended (“Act”), 19 U.S.C. 2273, the Department of Labor issued a Certification of Eligibility to Apply for Worker Adjustment Assistance on August 28, 2009, applicable to workers of Sypris Technologies Marion, LLC, Marion, Ohio. The notice was published in the Federal Register on November 5, 2009 (74 FR 57341).

At the request of the State Agency, the Department reviewed the certification for workers of the subject firm. The workers are engaged in the production on drive train parts for the heavy truck industry.

The review shows that on June 4, 2007, a certification of eligibility to apply for adjustment assistance was issued for all workers of Sypris Technologies Marion, LLC, Marion, Ohio, separated from employment on or after April 24, 2006 through June 4, 2009. The notice was published in the Federal Register on March 7, 2008 (73 FR 12466).

In order to avoid an overlap in worker group coverage, the Department is amending the June 4, 2008 impact date established for TA-W-71,000, to read June 5, 2009.

The amended notice applicable to TA-W-71,000 is hereby issued as follows:

All workers of Sypris Technologies Marion, LLC, Marion, Ohio, who became totally or partially separated from employment on or after June 5, 2009, through August 28, 2011, and all workers in the group threatened with total or partial separation from employment on date of certification through two years from the date of certification, are eligible to apply for adjustment assistance under Chapter 2 of Title II of the Trade Act of 1974, as amended.

Signed in Washington, DC, this 23rd day of June 2010.
Elliott S. Kushner,
Certifying Officer, Division of Trade Adjustment Assistance.

[FR Doc. 2010-16416 Filed 7-6-10; 8:45 am]

BILLING CODE 4510-FN-P